DEPARTMENT OF HEALTH AND HUMAN SERVICES

National Institutes of Health

National Heart, Lung, and Blood Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel; Short-term Educational Experiences in Hematology.

Date: March 11, 2015.

Time: 8:00 a.m. to 3:00 p.m.

Agenda: To review and evaluate grant applications.

Place: Hyatt Regency Bethesda; One Bethesda Metro Center; 7400 Wisconsin Avenue; Bethesda, MD 20814.

Contact Person: Melissa E Nagelin, Ph.D.; Scientific Review Officer; Office of Scientific Review/DERA; National Heart, Lung, and Blood Institute; 6701 Rockledge Drive; Room 7202; Bethesda, MD 20892; 301-435-0297; nagelinmh2@nhlbi.nih.gov.

Name of Committee: National Heart, Lung, and Blood Institute Special Emphasis Panel; International Strategic Timing of Antiretroviral Therapy.

Date: March 13, 2015.

Time: 11:00 a.m. to 1:00 p.m.

Agenda: To review and evaluate grant applications.

Place: National Institutes of Health; 6705 Rockledge Drive, Room 7188; Bethesda, MD 20817; (Telephone Conference Call).

Contact Person: Chang Sook Kim, Ph.D.; Scientific Review Officer; Office of Scientific Review/DERA; National Heart, Lung, and Blood Institute; 6701 Rockledge Drive; Room 7188; Bethesda, MD 20892-7924; 301-435-0287; carolko@mail.nih.gov.

(Catalogue of Federal Domestic Assistance Program Nos. 93.233, National Center for Sleep Disorders Research; 93.837, Heart and Vascular Diseases Research; 93.838, Lung Diseases Research; 93.839, Blood Diseases and Resources Research, National Institutes of Health, HHS).

Dated: February 12, 2015.
Michelle Trout,
Program Analyst, Office of Federal Advisory Committee Policy.

[FR Doc. 2015-03344 Filed 2-18-15; 8:45 am]

BILLING CODE 4140-01-P